DEPARTMENT OF HEALTH AND HUMAN SERVICES

Centers for Disease Control and Prevention

Rapid Strengthening of Blood Transfusion Services in Selected Countries in Africa and the Caribbean for the Ministries of Health and National Transfusion Services Under the President's Emergency Plan for AIDS Relief

Announcement Type: New, Cooperative Agreement.

Funding Opportunity Number: 04077.

Catalog of Federal Domestic Assistance Number: 93.943.

Key Dates:

• Application Deadline: March 1, 2004.

Executive Summary: An important aspect of the President Bush's Emergency Plan for AIDS Relief is to provide assistance to ensure a safe and adequate blood supply. The focus of this initiative is 14 countries in Africa and the Caribbean heavily affected by HIV/AIDS: Botswana, Côte d'Ivoire, Ethiopia, Haiti, Guyana, Kenya, Mozambique, Namibia, Nigeria, Rwanda, South Africa, Tanzania, Uganda, and Zambia. The purpose of this announcement is to rapidly provide support to the Ministries of Health or the Government's National Transfusion Services in the 14 targeted countries, with the goal of developing and implementing a national safe blood program with demonstrable results within the first year of the Emergency Plan. Specific activities include implementation of blood safety programs, including management, operations, and monitoring.

I. Funding Opportunity Description

Authority: This program is authorized under section 301(a) and 307 of the Public Health Service Act, [42 U.S.C. 241 (a) and 242l] as amended and under Public Law 108-25 (United States Leadership Against HIV/AIDS, Tuberculosis and Malaria Act of 2003) [22 U.S.C. 7601].

Purpose: President Bush's Emergency Plan for AIDS Relief has called for immediate action to turn the tide of HIV/AIDS in Africa and the Caribbean, preventing at least seven million HIV infections within five years. An important aspect of the President's plan is to provide assistance to ensure a safe and adequate blood supply. The focus of this initiative is 14 countries in Africa and the Caribbean heavily affected by HIV/AIDS: Botswana, Côte d'Ivoire, Ethiopia, Haiti, Guyana, Kenya, Mozambique, Namibia, Nigeria, Rwanda, South Africa, Tanzania, Uganda, and Zambia. The World Health Organization (WHO) estimates that five to ten percent of all HIV transmissions are attributable to unsafe blood transfusions. Transmission of HIV and other blood-borne pathogens via blood transfusion is preventable by establishing an adequate supply of safe blood through a systematized blood transfusion service and minimizing unnecessary transfusions. However, according to the WHO, among blood donations in Africa in 2002, only 90 percent were screened for HIV, 55 percent for Hepatitis B virus, and only 40 percent for Hepatitis C virus.

The rapid implementation of safe blood programs and precautions against medical transmission of HIV is a priority area for the President's plan. The purpose of this announcement is to rapidly provide support to Ministries of Health and National Transfusion Services in the 14 targeted countries, with the goal of developing and implementing a national safe blood program in each country with demonstrable results even within the first year of the Emergency Plan.

Measurable outcomes of this program will be in alignment with the following performance goal for President Bush's Emergency Plan for AIDS Relief: Prevent 7 million new HIV infections. The initiative will involve large-scale prevention efforts, including the rapid establishment and strengthening of safe blood transfusion services.

This initiative is a coordinated effort led by the Office of the Global AIDS Coordinator at the Department of State and involves various U.S. Federal Government agencies, including, the Department of State, the Department of Health and Human Services (HHS), the Department of Defense, and the U.S. Agency for International Development.

Activities: Awardee activities for this program area are as follows: A. Infrastructure—Assess current infrastructure needs for a national, regionalized blood transfusion system, including regional blood collection and processing facilities, laboratory testing equipment and supplies. Strengthen regional blood collection facilities and capacity in major urban areas, preferably near major health care facilities. Provide standard blood collection and laboratory equipment and reagents to regional blood collection facilities to collect blood and test it for transfusion-transmitted infections, and to perform blood grouping and cross matching.

B. Blood collection—Develop generic and site-specific protocols for obtaining, handling and storing, transporting, and distributing blood for use in blood collection facilities. Develop and maintain a network of blood donor recruiters and blood donor counselors to operate from each regional center. Develop and maintain a system to identify a network of low risk and repeat blood donors. Manage blood collection facilities that have the capacity to obtain, handle and store blood safely with good recordkeeping. Implement effective quality assurance procedures for collecting and storing blood.

C. Testing—Develop generic national and site-specific protocols for testing blood for HIV, hepatitis and syphilis. Manage blood testing facilities, ensuring good recordkeeping. Implement effective quality assurance procedures for testing blood.

D. Transfusion and Blood Utilization—Develop and implement national guidelines for the appropriate use of blood and blood products, nationally and regionally. Develop blood utilization review and quality assurance systems for blood usage.

E. Training—Develop and provide training programs and continuing education programs for health care professionals involved with blood transfusion services, such as physicians, nurses, physician assistants, community health aides, counselors, and laboratory technicians in the fields of blood donor recruitment and blood collection. Develop and provide training programs and continuing education programs for physicians and laboratory technicians in basic principles and practice of blood banking and transfusion medicine. Develop educational programs for health care providers, nurses and the general public on safe transfusion practices, including reducing the demand for unnecessary transfusions and recognizing community norms in practices regarding blood transfusions.

F. Monitoring and evaluation—Implement a system for reviewing and adjusting program activities based on monitoring information. Measure clinical outcomes to assess the impact of the program.

Funding will be provided to initiate new programs or expand existing programs (e.g., expanding from one region to other regions of the same country) that include the above components. Technical assistance in support of the activities listed in this program announcement will be provided to the Ministries of Health or the National Transfusion Services by CDC, as well as by the organizations that successfully compete for funding under a separate CDC cooperative agreement program announcement focused on the provision of technical assistance for blood safety activities in the targeted countries.

In a cooperative agreement, HHS/CDC staff is substantially involved in the program activities, above and beyond routine grant monitoring. HHS will work under the guidance and supervision of the Office of the Global AIDS Coordinator at the Department of State.

HHS/CDC Activities for this program are as follows:

A. Provide scientific and technical assistance in refining the operational plan.

B. Provide ongoing technical assistance in addressing problems encountered in implementing your plan. This may be provided directly by HHS/CDC staff or through organizations that successfully compete for funding under a separate HHS/CDC cooperative agreement program announcement focused on the provision of technical assistance for blood safety activities with the 14 targeted countries.

C. Assist in assessing program operations and in evaluating overall effectiveness of your program.

D. Staff in both headquarters (HHS/CDC Atlanta and HHS/CDC in country) and in the designated countries will assure that other related U.S. Government activities are well coordinated with National Programs in each country.

II. Award Information

Type of Award: Cooperative Agreement. HHS/CDC involvement in this program is listed in the Activities Section above.

Fiscal Year Funds: FY 2004.

Approximate Total Funding: $42 million.

Approximate Number of Awards: 14.

Approximate Average Award: $3 million.

Floor of Award Range: $500,000.

Ceiling of Award Range: $5 million.

Anticipated Award Date: March 25, 2004.

Budget Period Length: 12 months.

Project Period Length: 5 years.

Throughout the project period, CDC's commitment to continuation of awards will be conditioned on the availability of funds, evidence of satisfactory progress by the recipient (as documented in required and certified technically acceptable semi-annual program and financial reports), and the determination that continued funding is in the best interest of the U.S. Government.

III. Eligibility Information

III.1. Eligible applicants: Applications may be submitted by Ministries of Health, National Blood Transfusion Services or their bona fide agents in the 14 targeted countries: Botswana, Côte d'Ivoire, Ethiopia, Haiti, Guyana, Kenya, Mozambique, Namibia, Nigeria, Rwanda, South Africa, Tanzania, Uganda, and Zambia.

A Bona Fide Agent is an agency/organization identified by the Ministry of Health as eligible to submit an application under the Ministry eligibility in lieu of a Ministry application. If you are applying as a bona fide agent of a Ministry, you must provide a letter from the state as documentation of your status. Place this documentation behind the first page of your application form.

III.2. Cost Sharing or Matching: Matching funds are not required for this program.

III.3. Other Eligibility Requirements: If you request a funding amount greater than the ceiling of the award range, your application will be considered non-responsive and will not be entered into the review process. You will be notified that your application did not meet the submission requirements.

Note: Title 2 of the United States Code section 1611 states that an organization described in section 501(c)(4) of the Internal Revenue Code that engages in lobbying activities is not eligible to receive Federal funds constituting an award, grant, or loan.

IV. Application and Submission Information

IV.1. Address to Request Application Package: To apply for this funding opportunity use application form PHS 5161. Forms are available on the United States Government (USG) web site, at the following Internet address: http://www.cdc.gov/od/pgo/forminfo.htm.

If you do not have access to the Internet, or if you have difficulty accessing the forms on-line, you may contact the USG Procurement and Grants Office Technical Information Management Section (PGO-TIM) staff at: 770-488-2700. Application forms can be mailed to you.

IV.2. Content and Form of Submission: You must submit a signed original and two copies of your application forms.

You are required to have a Dun and Bradstreet Data Universal Numbering System (DUNS) number to apply for a grant or cooperative agreement from the USG. The DUNS number is a nine-digit identification number, which uniquely identifies business entities. Obtaining a DUNS number is easy and there is no charge. To obtain a DUNS number, access http://www.dunandbradstreet.com or call 1-866-705-5711. For more information, see the USG web site at: http://www.cdc.gov/od/pgo/funding/pubcommt.htm.

If your application form does not have a DUNS number field, please write your DUNS number at the top of the first page of your application, and/or include your DUNS number in your application cover letter.

You must include a project narrative with your application forms. Your narrative must be submitted in the following format:

• Maximum number of pages: 30—If your narrative exceeds the page limit, only the first pages which are within the page limit will be reviewed.

• Font size: 12 point unreduced.

• Paper size: 8.5 by 11 inches.

• Page margin size: 1″—top, bottom, right, and left.

• Printed only on one side of page.

• Held together only by rubber bands or metal clips; not bound in any other way.

• Written in English, avoid jargon.

Your narrative should address activities to be conducted over the entire project period, and must include the following items in the order listed:

A. Need and Experience (4 Pages Maximum)

Describe the need for services in the country or regions in which you intend to provide blood transfusion safety services. Provide evidence that your organization has experience in and is currently developing or maintaining blood safety programs in one or more of the following countries: Botswana, C“te d'Ivoire, Ethiopia, Haiti, Guyana, Kenya, Mozambique, Namibia, Nigeria, Rwanda, South Africa, Tanzania, Uganda, and Zambia. Address the following:

1. Estimated number of transfusions; age-specific prevalence for HIV, hepatitis and syphilis; estimated number of transfusion-related infections from HIV, hepatitis and syphilis-contaminated blood.

2. Estimated number of blood units needed for an adequate blood supply, the number of additional blood units that must be collected to meet the supply need, and number of test kits needed annually to test the entire blood supply for HIV, hepatitis and syphilis.

3. Number of needed regional blood collection and testing centers, and the population covered by each center.

4. Need for blood safety education and training activities.

5. Need for blood donor selection and recruitment strategies.

B. Current Blood Bank and Transfusion Service Activities (8 Pages Maximum)

Describe the blood transfusion system activities for the regions in which you plan to provide blood transfusion safety services. Address the following:

1. Infrastructure—Describe the current blood transfusion system infrastructure, including regional blood collection facilities, laboratory testing equipment, and supplies. Describe their location and access to major urban population centers.

2. Blood collection—Describe the current protocols and systems for collecting, handling and distributing units of blood. Describe the organization of blood donor recruitment and counseling activities. Describe the management of blood collection facilities, record-keeping and quality assurance activities. Describe your activities to promote blood donor community mobilization in the proposed areas, including relationships with other organizations that provide services.

3. Testing—Describe the current system of testing blood for HIV, hepatitis and syphilis. Include a description of the following: (a) the type and number of laboratory facilities for testing of HIV and other transfusion transmitted infections; (b) staff qualifications; (c) the number and types of tests performed by each facility in the past 12 months; and (d) the percent of the blood supply currently tested; (e) the capability of performing these tests at each facility including type of equipment used; and (f) current quality assurance procedures.

4. Transfusion and Blood Utilization—Describe current use of national/regional guidelines for blood transfusion therapy and efforts or systems for blood utilization review and the reduction of unnecessary blood transfusions.

5. #Training activities—Describe current training programs for blood transfusion safety for physicians, laboratory technologists, donor recruiters and nurses. Include information the types and numbers of persons trained, training curricula, training facilities, and the trainers.

6. Monitoring and evaluation—Describe the current system to record important program indicators such as the monthly number of units of safe blood made available, the number of persons receiving safe blood each month, the blood supply deficit, and the number of persons with serious adverse consequences to transfusions.

C. Goals (4 Pages Maximum)

Address the following:

1. Provide goals, objectives, and timeline for implementation of the program plan.

2. Provide measures of effectiveness by which you can assess the success of the program.

3. Provide letters of support from organizations with which you intend to work. These letters should indicate support for the goals and objectives of your proposed project and indicate what support they will provide, e.g., referrals to your program.

D. Rapid Expansion of Blood Transfusion Safety Services (8 Pages Maximum)

Describe your plans for increasing the quality and extent of safe blood transfusion services. Describe your plans for increasing the number of units of safe blood available for transfusion and plans for reducing unnecessary transfusions. If an applicant plans to sub-contract out to other organizations, this strategy must be clearly identified and explained in the application. Address the following areas:

1. Infrastructure—Describe your plans to assess and expand the current blood transfusion system infrastructure, including regional blood collection facilities, laboratory testing and processing equipment, and supplies.

2. Blood collection—Describe your plans for expanding the current systems for collecting, handling, and distributing units of blood. Describe your plans for the expansion of blood donor recruitment and counseling activities. Describe your plans for the development of blood collection facilities management, record-keeping and quality assurance activities. Describe your planned activities to promote blood donor community mobilization in the proposed areas, including relationships with other organizations that provide the services.

3. Testing—Describe your plans to expand the current system of testing blood for HIV, hepatitis, and syphilis. Describe plans to implement or expand current quality assurance procedures.

4. Transfusion and Blood Utilization—Describe plans to implement the use of national or regional guidelines for blood transfusion therapy and efforts or systems for blood utilization review and the reduction of unnecessary blood transfusions.

5. Training activities—Describe proposed training programs for blood transfusion safety for physicians, laboratory technologists, blood donor recruiters, and nurses. Include information about proposed course titles, types and numbers of persons to be trained, length of each course, development of training facilities, and trainers.

6. Monitoring and evaluation—Describe the proposed system to use important program indicators such as the monthly number of units of safe blood made available, the number of persons receiving safe blood each month, the blood supply deficit, and the number of persons with serious adverse consequences to transfusions.

7. Sustainability—Applicants should develop a one-page description of capacity building activities for each year's work plan. Proposed activities must include capacity building as defined as activities promoting host country infrastructure development and strengthening of management, service delivery, and evaluation systems and clinical/cultural competency.

In order to accomplish sustainable systems development the following activities are suggested:

• Identify key stakeholders and engage potential in-country partners;

• Develop or expand a formal (preferably host country) advisory group to plan for on-going services;

• Define the components of care with other health or social service providers;

• Research funding sources; and

• Develop an exit plan.

The overall strategy and program must fit into National host country strategies including continuation of the program funding and staffing.

E. Management Plan, Staffing, and Infrastructure (6 Pages Maximum)

1. Management plan—Provide an organizational chart and describe the responsibilities for each of the key staff.

2. Staffing—Describe the number and types of staff needed to assist with technical guidance and training activities.

3. Infrastructure—Describe the physical facilities in which the proposed activities will be carried out and the equipment needed.

4. Human Resources, Management and Administration—Describe plans to provide or obtain all material and human resources necessary for the development, implementation, management, operation, procurement, monitoring, and quality assurance of all program activities.

5. Coordination with National Programs—Describe the organization's strategy to coordinate proposed activities within the context of national programs.

F. Budget Narrative (No Page Limit)

Guidance for completing your budget can be found on the USG web site, at the following address: http://www.cdc.gov/od/pgo/funding/budgetguide.htm.

Additional information may be included in the application appendices. The appendices will not be counted toward the narrative page limit. This additional information includes: Curriculum Vitae, Resumes, Organizational Charts, Letters of Support, and other pertinent documents.

IV. 3. Submission Dates and Times:

Application Deadline Date: March 1, 2004.

Explanation of Deadlines: Applications must be received in the CDC Procurement and Grants Office by 4:00 p.m. Eastern Time on the deadline date. If you send your application by the United States Postal Service or commercial delivery service, you must ensure that the carrier will be able to guarantee delivery of the application by the closing date and time. If CDC receives your application after closing due to: (1) carrier error, when the carrier accepted the package with a guarantee for delivery by the closing date and time, or (2) significant weather delays or natural disasters, you will be given the opportunity to submit documentation of the carriers guarantee. If the documentation verifies a carrier problem, CDC will consider the application as having been received by the deadline.

This program announcement is the definitive guide on application format, content, and deadlines. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications: Executive Order 12372 does not apply to this program.

IV.5. Funding Restrictions: Funding restrictions, which must be taken into account while writing your budget are as follows:

• Funds may be used only for activities associated with strengthening blood transfusion services. USG funds may be used for direct costs such as salaries; necessary travel; operating costs, including supplies, fuel, utilities, etc.; staff training costs, including registration fees and purchase and rental of training related equipment; and purchase of HIV testing reagents, test kits, and laboratory equipment for HIV testing.

• No funds made available under this solicitation may be used to provide assistance to any group or organization that does not have a policy explicitly opposing prostitution and sex trafficking. This written statement of certification must be signed by authorized person(s) within the applicant group or organization, including the individuals submitting the application. No funds made available under this solicitation may be used to promote or advocated the legalization or practice of prostitution or sex trafficking. Nothing in the preceding two sentences shall be construed to preclude the provision to individuals of palliative care, treatment, or post-exposure pharmaceutical prophylaxis, and necessary pharmaceuticals and other commodities, including test kits, condoms, and, when proven effective, microbicides.

• No funds appropriated under this solicitation shall be used to carry out any program of distributing sterile needles or syringes for the hypodermic use of any illegal drug.

• Applicants may contract with other organizations under this program; however, the applicant must perform a substantial portion of the activities (including program management and operations, and delivery of services for which funds are requested).

• The costs that are generally allowable in grants to domestic organizations are allowable to foreign institutions and international organizations, with the following exception: With the exception of American University, Beirut and the World Health Organization, indirect costs will not be paid (either directly or through a sub-award) to organizations located outside the territorial limits of the United States or to international organizations regardless of their location.

• All requests for funds contained in the budget shall be stated in U.S. dollars. Once an award is made, the U.S. Government will not compensate foreign grantees for currency exchange fluctuations through the issuance of supplemental awards.

• A fiscal Recipient Capability assessment may be required, prior to or post award, in order to review the applicant's business management and fiscal capabilities regarding the handling of U.S. Federal funds.

• You must obtain an annual audit of these U.S. Government funds (program-specific audit) by a U.S.—based audit firm with international branches and current licensure/authority in-country, and in accordance with International Accounting Standards or equivalent standard(s) approved in writing by the U.S. Government.

IV.6. Other Submission Requirements: Submit your application by mail or express delivery service to: Technical Information Management—PA#04077, CDC Procurement and Grants Office, 2920 Brandywine Road, Atlanta, GA 30341, USA.

Applications may not be submitted electronically at this time.

V. Application Review Information

V.1. Criteria: You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation. These should be included in your project narrative under “Goals.”

Your application will be evaluated against the following criteria:

1. Current capability: 55 Points

(a) Infrastructure/Experience—Does the applicant have the resources as well as demonstrated experience necessary to develop blood center infrastructure, including buildings, equipment, and supplies?

(b) Blood collection—Does the applicant have the resources to develop blood collection facilities and blood donor recruitment networks?

(c) Testing—Does the applicant have the resources to develop blood transfusion testing laboratories, including standard operating procedures protocols?

(d) Transfusion and Blood Utilization—Does the applicant have the resources to develop blood transfusion practice guidelines and a blood utilization review program?

(e) Training—Does the applicant have the resources to develop a comprehensive training program in the basic principles and practices of blood banking and transfusion medicine?

(f) Monitoring and evaluation—Is there a monitoring and evaluation plan in place? Does the plan measure important indicators?

(g) Management and Administration—Does the applicant have the resources to manage and administer a national blood transfusion system?

2. Feasibility of Plan: 35 Points

(a) Infrastructure—Is the plan to develop blood center infrastructure sound and reasonable?

(b) Blood collection—Is the plan to develop blood collection facilities, including the development of blood donor recruitment networks, reasonable?

(c) Testing—Is the plan to develop blood transfusion testing laboratories, including standard operating procedures and protocols, reasonable?

(d) Transfusion and Blood Utilization—Does the applicant's plan to develop blood transfusion practice guidelines and a blood utilization review program seem reasonable?

(e) Training—Does the applicant have the resources and a reasonable plan to develop a comprehensive training program in the basic principles and practices of blood banking and transfusion medicine?

(f) Monitoring and evaluation—Is the monitoring and evaluation plan feasible? Does the plan measure important indicators?

(g) Sustainability—Is the plan for sustainability reasonable and feasible?

3. Measures of Effectiveness: 10 Total

Do the measures of effectiveness address the number of blood units tested safe for transfusion-transmitted diseases and the number of persons receiving safe transfusions?

V.2. Review and Selection Process: Applications will be reviewed for completeness by the Procurement and Grants Office (PGO) staff, and for responsiveness by the National Center for HIV, STD, and TB Prevention. Incomplete applications and applications that are non-responsive to the eligibility criteria will not advance through the review process. Applicants will be notified that their application did not meet submission requirements.

An interagency objective review panel will evaluate complete and responsive applications according to the criteria listed in the “V.1. Criteria” section above.

In addition, the following factors may affect the funding decision:

• Geographic distribution

• Percentage of staff who are citizens of the country in which services will be provided.

V.3. Anticipated Announcement and Award Dates:

Award Date: March 25,2004.

VI. Award Administration Information

VI.1. Award Notices: Successful applicants will receive a Notice of Grant Award (NGA) from the USG Procurement and Grants Office. The NGA shall be the only binding, authorizing document between the recipient and USG. The NGA will be signed by an authorized Grants Management Officer, and mailed to the recipient fiscal officer identified in the application.

Unsuccessful applicants will receive notification of the results of the application review by mail.

VI.2. Administrative and National Policy Requirements: 45 CFR part 74 and part 92.

For more information on the Code of Federal Regulations, see the National Archives and Records Administration at the following Internet address: http://www.access.gpo.gov/nara/cfr/cfr-table-search.html.

The following additional requirements apply to this project:

• AR-4 HIV/AIDS Confidentiality Provisions.

• AR-5 HIV Program Review Panel Requirements.

• AR-6 Patient Care.

• AR-9 Paperwork Reduction Act Requirements.

• AR-10 Smoke-Free Workplace Requirements.

• AR-11 Healthy People 2010.

• AR-12 Lobbying Restrictions.

• AR-14 Accounting System Requirements.

• AR-16 Security Clearance Requirement.

• AR-23 States and Faith-Based Organizations.

• AR-24 Health Insurance Portability and Accountability Act Requirements.

• AR-25 Release and Sharing of Data.

Additional information on these requirements can be found on the CDC web site at the following Internet address: http://www.cdc.gov/od/pgo/funding/ARs.htm.

Reporting Requirements: You must provide CDC with a hard copy original, plus two copies of the following reports:

1. Interim progress report, no less than 90 days before the end of the budget period The progress report will serve as your non-competing continuation application, and must contain the following elements:

(a) Current Budget Period Activities Objectives.

(b) Current Budget Period Financial Progress.

(c) New Budget Period Program Proposed Activity Objectives.

(d) Detailed Line-Item Budget and Justification.

(e) Additional Requested Information.

2. Semi-annual progress report, due 7 months after the beginning of each budget period. This report should contain the following elements:

(a) Progress on achieving objectives

(b) Modification or new activities

3. Financial status report, no more than 90 days after the end of the budget period.

4. Final financial and performance reports, no more than 90 days after the end of the project period.

These reports must be sent to the Grants Management Specialist listed in the “Agency Contacts” section of this announcement.

VII. Agency Contacts

For general questions about this announcement, contact: Technical Information Management Section, CDC Procurement and Grants Office, 2920 Brandywine Road, Atlanta, GA 30341, Telephone: (770) 488-2700.

For program technical assistance, contact: Kenneth Clark, M.D., MPH, Project Officer, National Center for HIV, STD, and TN Prevention, Centers for Disease Control and Prevention, 1600 Clifton Rd, NE, MS E04, Atlanta, GA 30333, Telephone: (404) 639-8057, E-mail: kjc4@cdc.gov.

For budget assistance, contact: Shirley Wynn, Contract Specialist, CDC Procurement and Grants Office, 2920 Brandywine Road, Atlanta, GA 30341, Telephone: (770) 488-1515, E-mail: zbx6@cdc.gov.

Dated: November 25, 2003.
Edward Schultz,
Acting Director, Procurement and Grants Office, Centers for Disease Control and Prevention.

[FR Doc. 03-29891 Filed 11-28-03; 8:45 am]

BILLING CODE 4163-18-P